DEPARTMENT OF ENERGY

Federal Energy Regulatory Commission

[Docket No. IC04-538-001, FERC-538]

Commission Information Collection Activities, Proposed Collection; Comment Request; Submitted for OMB Review

June 8, 2004.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received no comments in response to an earlier Federal Register notice of March 31, 2004 (69 FR 16907-16908), and has responded to their comments in its submission to OMB.

DATES: Comments on the collection of information are due by July 6, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-7856. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-538-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at (202) 502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-538 “Gas Pipeline Certificates: Section 7(a) Mandatory Initial Service.”

2. Sponsor: Federal Energy Regulatory Commission.

3. Control No.: 1902-0061.

The Commission is now requesting that OMB approve and reinstate with a three-year extension of the expiration date, with no changes to the existing collection. The information filed with the Commission is mandatory.

4. Necessity of the Collection of Information: Submission of the information is necessary to enable the Commission to carry out its responsibilities in implementing the statutory provisions 7(a), 10(a) and 16 of the Natural Gas Act (NGA) (Pub. L. 75-688) (15 U.S.C. 717-717w). The reporting requirements contained in this information collection are used by the Commission to determine whether a distributor applicant can economically construct and manage its facilities. Requests are made to the Commission by individuals or entities to have the Commission, by order, direct a natural gas pipeline to extend or improve its transportation facilities, and sell gas to an individual, entity or municipality for the specific purpose indicated in the order, and to extend the pipeline's transportation facilities to communities immediately adjacent to the municipality's facilities or to territories served by the natural gas company. In addition, the Commission reviews the supply data to determine if the pipeline company can provide the service without curtailing certain of its existing customers. The flow data and market data are also used to evaluate existing and future customer requirements on the system to find if sufficient capacity will be available. Likewise, the cost of facilities and the rate data are used to evaluate the financial impact of the cost of the project to both the pipeline company and its customers. The Commission implements the filing requirements in the Code of Regulations (CFR) under 18 CFR part 156.

5. Respondent Description: The respondent universe currently comprises 1 company (on average per year) subject to the Commission's jurisdiction

6. Estimated Burden: 240 total hours, 1 respondent (average per year), 1 response per respondent, and 240 hours per response (average).

7. Estimated Cost Burden to Respondents: 240 hours/2080 hours per year × $107,185 per year = $12,368.

Statutory Authority: Sections 7(a), 10(a) and 16 of the Natural Gas Act (NGA), Pub. L. 75-688 (15 U.S.C. 717-717w).

Linda Mitry,
Acting Secretary.

[FR Doc. E4-1357 Filed 6-17-04; 8:45 am]

BILLING CODE 6717-01-P